DEPARTMENT OF TRANSPORTATION

Pipeline and Hazardous Materials Safety Administration

[Docket No. PHMSA-2014-0150]

Pipeline Safety: Public Workshop on Hazardous Liquid Integrity Verification Process

AGENCY: Pipeline and Hazardous Materials Safety Administration, DOT.

ACTION: Notice of public meeting.

SUMMARY: This notice is announcing a public workshop to be held on the concept of “Hazard Liquid Integrity Verification Process (HL IVP).” The HL IVP is to confirm the Maximum Operating Pressure when pipeline records are not traceable, verifiable, or complete. The Pipeline and Hazardous Materials Safety Administration (PHMSA) held a similar workshop in August 2013 on the Integrity Verification Process for gas transmission pipelines to help address several mandates in the Pipeline Safety, Regulatory Certainty, and Job Creation Act of 2011 and National Transportation Safety Board recommendations. At this one day workshop, PHMSA will present the latest information for a proposal for HL IVP and have presentations of perspectives from pipeline operators, state regulatory partners, and the public. Earlier draft material provided to stakeholders along with comments in response from the American Petroleum Institute and the Association of Oil Pipelines are available via the same docket for this workshop.

DATES: The public meeting will be held on Thursday, August 27, 2015.

ADDRESSES: The workshop will be held at the Crystal City Marriott at Reagan National Airport, 1999 Jefferson Davis Highway Arlington, VA, 22202. A limited block of rooms is available at the government rate of $162 per night. The deadline to book a room in the block is August 6, 2015, or when the block is filled, whichever comes first. More information and a link to reserve a room are available on the meeting Web site. You can also call the hotel directly at 1-703-413-5500 and ask for the “U.S. Department of Transportation Meeting” block.

The event will also be Webcast. A link to the Webcast will be provided via the meeting Web site when available, but no later than the day of the workshop.

Registration: Members of the public may attend this free workshop. To help assure that adequate space is provided, all attendees are encouraged to register for the workshop in advance via the meeting Web site at: https://primis.phmsa.dot.gov/meetings/MtgHome.mtg?mtg=103. Onsite registration will also be available.

Comments: Members of the public may also submit written comments either before or after the workshop. Comments should reference Docket No. PHMSA-2014-0150. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC between 9 a.m. and 5 p.m., Monday through Friday, except Federal holidays.

Instructions: Identify the docket number at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act Statement heading below for additional information.

Privacy Act Statement: Anyone may search the electronic form of all comments received for any of our dockets. You may review DOT's complete Privacy Act Statement in the Federal Register published April 11, 2000, (65 FR 19477).

Information on Services for Individuals with Disabilities: For information on facilities or services for individuals with disabilities, or to request special assistance at the meeting, please contact Max Kieba at 202-493-0595 or by email at max.kieba@dot.gov.

FOR FURTHER INFORMATION CONTACT: Max Kieba, Office of Pipeline Safety, at 202-493-0595 or by email at max.kieba@dot.gov, regarding the subject matter of this notice.

SUPPLEMENTARY INFORMATION: More details on this meeting, including the location, times, and agenda items, will be available on the meeting registration Web site at https://primis.phmsa.dot.gov/meetings/MtgHome.mtg?mtg=103 as they become available. Please note that the public workshop will be webcast, and presentations will be available via the meeting Web site after the conclusion of the meeting. The workshop will be open to members of the public.

Issued in Washington, DC, on August 11, 2015, under authority delegated in 49 CFR 1.97.
Alan K. Mayberry,
Deputy Associate Administrator for Policy and Programs.

[FR Doc. 2015-20065 Filed 8-13-15; 8:45 am]

BILLING CODE 4910-60-P